FEDERAL COMMUNICATIONS COMMISSION

Information Collection Approved by the Office of Management and Budget (OMB)

AGENCY: Federal Communications Commission.

ACTION: Notice.

SUMMARY: The Federal Communications Commission (FCC) has received Office of Management and Budget (OMB) approval for the following public information collection requirements under OMB Control Number 3060-0819, as required by the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Leslie F. Smith, Office of the Managing Director, at (202) 418-0217, Leslie.Smith@fcc.gov or PRA@fcc.gov.

SUPPLEMENTARY INFORMATION: OMB Control Number: 3060-0819.

OMB Approval Date: December 12, 2013.

OMB Expiration Date: December 31, 2016.

Title: Lifeline and Link Up Reform and Modernization, Advancing Broadband Availability Through Digital Literacy Training.

Form No.: FCC Forms 481, 497, 550, 555, and 560.

Respondents: Individuals or households and businesses or other for-profit.

Number of Respondents and Responses: 41,806,827 respondents; 41,838,920 responses.

Estimated Time per Response: 0.25 hours to 250 hours.

Frequency of Response: On Occasion, Quarterly, Biennially, Monthly, One Time, and Annual reporting requirements, Third Party Disclosure requirements and Recordkeeping requirements.

Total Annual Burden: 24,184,565 hours.

Total Annual Cost: N/A.

Obligation to Respond: Required to obtain or retain benefits. Statutory authority for this information collection is contained in 47 U.S.C. 1, 4(i), 201-205, 214, 254 and 403 of the Communications Act of 1934, as amended.

Privacy Impact Assessment: Yes.

Nature and Extent of Confidentiality: The rules adopted in the 2012 Lifeline Reform Order affect individuals or households, and thus, there are impacts under the Privacy Act. As required by the Privacy Act of 1974, as amended, 5 U.S.C. 552a. The Commission created a system of records notice (SORN) to cover the collection, storage, maintenance and disposal (when appropriate) of any personally identifiable information that the Commission may collect as part of the information collection. We note that USAC must preserve the confidentiality of all data obtained from respondents and contributors to the universal service support program mechanism, unless otherwise directed by the Commission, must not use the data except for purposes of administering the universal service support program mechanism, must not disclose data in company-specific form unless directed to do so by the Commission. If the Commission requests information that respondents believe is confidential, respondents may request confidential treatment of such information under 47 U.S.C. 0.459 of the Commission's rules unless such information is already publicly available in other forms or the Commission has previously concluded that such information should be publicly available.

Needs and Uses: The information collected under OMB control number 3060-0819 is used by the FCC and USAC to administer the universal service Lifeline program. It is used to provide support to eligible subscribers, ensure subscribers' continued eligibility and to prevent waste, fraud, and abuse of universal service funds.

Federal Communications Commission.
Gloria J. Miles,
Federal Register Liaison, Office of the Secretary, Office of Managing Director.

[FR Doc. 2014-00711 Filed 1-15-14; 8:45 am]

BILLING CODE 6712-01-P